DEPARTMENT OF AGRICULTURE

Federal Crop Insurance Corporation

7 CFR Part 457

Common Crop Insurance Regulations

CFR Correction

In Title 7 of the Code of Federal Regulations, Parts 400 to 699, revised as of January 1, 2015, on page 278, in § 457.137, under the subheading “12. Settlement of Claim”, in the second paragraph (4) under paragraph (b), remove the term “4450,000” and add the term “450,000” in its place.

[FR Doc. 2015-33015 Filed 12-30-15; 8:45 am]

BILLING CODE 1505-01-D